DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains and associated funerary objects in the possession of the Field Museum of Natural History, Chicago, IL. The human remains and associated funerary objects were removed from Fort Peck Indian Reservation, MT, and from an unknown location in Montana.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by Field Museum of Natural History professional staff in consultation with representatives of Assiniboine and Sioux Tribes of the Fort Peck Indian Reservation, Montana.

In July 1900, human remains representing a minimum of two individuals were removed from the Fort Peck Indian Reservation, MT. Field Museum of Natural History records state that anthropologist Stewart Culin removed the human remains from Fort Peck. In 1902, the human remains were transferred to the Field Museum of Natural History from the Free Museum of Science and Art (now the University of Pennsylvania Museum of Archaeology and Anthropology, Philadelphia, PA) as part of an exchange. No known individuals were identified. The 20 associated funerary objects are 1 bracelet (possibly bone), 3 stones, 1 small piece of dirt or clay, 13 copper alloy bracelets, 1 leather knife sheath, and 1 wooden stick.

Field Museum of Natural History staff consulted with University of Pennsylvania Museum of Anthropology and Archaeology staff who had no additional information about the human remains and associated funerary objects. University of Pennsylvania Museum of Archaeology and Anthropology records, however, indicate that Mr. Culin removed other human remains from a box grave outside of the Fort Peck Indian Reservation at the same time as the human remains and funerary objects held by the Field Museum of Natural History were removed.

The human remains and associated funerary objects have been identified as Native American, based on the identification of Sioux cultural affiliation in museum records and based on identification of origin on the Fort Peck Reservation, MT. The physical condition of the human remains and associated funerary objects indicates that they are of relatively recent historical origin. Field Museum of Natural History records identify the human remains as Sioux. Sioux descendents in Montana are represented by the present-day Assiniboine and Sioux Tribes of the Fort Peck Reservation, Montana.

At an unknown time, the Field Museum of Natural History acquired human remains representing a minimum of one individual. No known individual is identified. No associated funerary objects are present.

Field Museum of Natural History records identify the human remains as those of a “Montana, Sioux [sic],” indicating that the collector was aware of the cultural affiliation of the individual. Based on the specific cultural and geographic attribution in the museum records, the human remains are determined to be culturally affiliated with the Sioux tribes. Sioux descendents in Montana are represented by the present-day Assiniboine and Sioux Tribes of the Fort Peck Reservation, Montana.

Officials of the Field Museum of Natural History have determined that, pursuant to 25 U.S.C. 3001 (9-10), the human remains listed above represent the physical remains of three individuals of Native American ancestry. Officials of the Field Museum of Natural History also have determined that, pursuant to 25 U.S.C. 3001 (3)(A), the 20 objects listed above are reasonably believed to have been placed with or near individual human remains at the time of death or later as part of the death rite or ceremony. Lastly, officials of the Field Museum of Natural History also have determined that, pursuant to 25 U.S.C. 3001 (2), there is a relationship of shared group identity that can be reasonably traced between the Native American human remains and associated funerary objects and the Assiniboine and Sioux Tribes of the Fort Peck Indian Reservation, Montana.

Representatives of any other Indian tribe that believes itself to be culturally affiliated with the human remains and associated funerary objects should contact Helen Robbins, Repatriation Specialist, Field Museum of Natural History, 1400 South Lake Shore Drive, Chicago, IL, 60605-2496, telephone (312) 665-7317, before January 29, 2004. Repatriation of the human remains and associated funerary objects to the Assiniboine and Sioux Tribes of the Fort Peck Indian Reservation, Montana may proceed after that date if no additional claimants come forward.

The Field Museum of Natural History is responsible for notifying the Assiniboine and Sioux Tribes of the Fort Peck Indian Reservation, Montana that this notice has been published.

Dated: October 30, 2003.
John Robbins,
Assistant Director, Cultural Resources.

[FR Doc. 03-31933 Filed 12-29-03; 8:45 am]

BILLING CODE 4310-50-S